Proclamation 9158 of August 29, 2014

National Preparedness Month, 2014

By the President of the United States of America

A Proclamation

In times of emergency, our Nation pulls together—neighbors support each other, communities react with compassion, and afterward, our country emerges stronger and more resilient. But before emergencies occur, we must make sure we are ready to respond, and it is every American's responsibility to be prepared. There are simple but important steps we can all take to ensure we know what to do and have what we need in the event of a crisis. National Preparedness Month is an opportunity to talk with our families, friends, and colleagues about the risks in our communities and to practice our responses in all the places we regularly visit.

Emergencies—from hurricanes and wildfires to cyber and terrorist attacks—can strike anywhere at any time. Americans should be familiar with local threats and hazards and take steps to reduce their devastating impacts. Families should assemble a disaster supplies kit well in advance and have a plan to reconnect after a tragedy. To make sure you are ready in the event of a crisis and to learn more about the types of disasters common in your area, visit www.Ready.gov or www.Listo.gov.

In regions affected by disaster, my Administration invested billions of dollars during the immediate aftermath to support a rapid response. We bolstered coordination with our local, State, tribal, and territorial partners to cut through red tape and kept our commitment to rebuild stronger and fully recover together. We are harnessing our Nation's innovative spirit to develop new tools and technologies that will empower survivors and better inform Americans before, during, and after an emergency. My Administration also launched America's PrepareAthon! to assist with increasing local readiness. Through this initiative, communities across our country will participate in the second national day of action on September 30, providing Americans of all ages with resources and opportunities to increase their preparedness.

Our Nation also faces longer wildfire seasons, more severe droughts, heavier rainfall, and more frequent flooding in a changing climate. That is why, as part of my Climate Action Plan, we are committed to building smarter, more resilient infrastructure that can withstand more frequent and more devastating natural disasters and to supporting our communities as they prepare for these impacts.

When and where emergencies occur are beyond our control—but how we prepare and how we respond are up to us. This month, we honor the heroes who put the needs and lives of others before their own and rush to help in times of tragedy: our emergency responders and other extraordinary Americans who are prepared to act in critical moments. Let us resolve to be ready for any crisis and work to inspire a new generation of Americans, vested with the knowledge and experience to protect themselves, their families, and their communities in the face of any challenge.

NOW, THEREFORE, I, BARACK OBAMA, President of the United States of America, by virtue of the authority vested in me by the Constitution and the laws of the United States, do hereby proclaim September 2014 as National Preparedness Month. I encourage all Americans to recognize the importance of preparedness and work together to enhance our national security, resilience, and readiness.

IN WITNESS WHEREOF, I have hereunto set my hand this twenty-ninth day of August, in the year of our Lord two thousand fourteen, and of the Independence of the United States of America the two hundred and thirty-ninth.

[FR Doc. 2014-21259

Filed 9-3-14; 11:15 am]

Billing code 3295-F4